DEPARTMENT OF COMMERCE

National Oceanic and Atmospheric Administration

RIN 0648-XR01

Fisheries of the Exclusive Economic Zone Off Alaska; Chinook Salmon Bycatch Management Measures Workshop

AGENCY: National Marine Fisheries Service (NMFS), National Oceanic and Atmospheric Administration (NOAA), Commerce.

ACTION: Notice of public workshop.

SUMMARY: NMFS announces a workshop to solicit comments from owners and operators of trawl catcher/processors and motherships in the Bering Sea pollock fishery about proposed equipment and operational requirements to monitor salmon bycatch. The workshop is open to the public, but NMFS is particularly seeking participation by people who are knowledgeable about the operations of the catcher/processors and motherships and who can discuss with NMFS the potential operational impacts of proposed monitoring requirements.

DATES: The public workshop will be held on Wednesday, September 23, 2009, from 9 a.m. to 4 p.m. Pacific standard time.

ADDRESSES: The workshop will be held at the Swedish Cultural Center, 1920 Dexter Avenue N., Seattle, WA 98109. Directions to the Swedish Cultural Center are on its website at http://www.swedishculturalcenter.org/contacts.htm.

FOR FURTHER INFORMATION CONTACT: Jennifer Watson, 907-586-7537 or Sally Bibb 907-586-7389.

SUPPLEMENTARY INFORMATION: The North Pacific Fishery Management Council has recommended revisions to the management of Chinook salmon bycatch in the Bering Sea pollock fishery under proposed Amendment 91 to the Fishery Management Plan for Groundfish of the Bering Sea and Aleutian Islands Management Area. NMFS is developing proposed revisions to equipment and operational requirements for catcher/processors and motherships to support using a count or census as the basis for accounting for Chinook salmon bycatch under Amendment 91. A census is an alternative to estimating Chinook salmon bycatch based on species composition samples taken by observers onboard the catcher/processors and motherships. NMFS is considering proposed requirements related to the storage and handling of salmon sorted from the groundfish catch; video monitoring of areas where salmon are sorted from the catch and stored prior to being counted by the observer; and electronic logbooks to facilitate timely vessel reporting of the count of salmon bycatch by species for each haul.

This workshop is open to the public, but NMFS is particularly seeking input and discussion with people who work on the catcher/processors and motherships, are familiar with the vessel operations, and have knowledge of the potential impact of changes in the handling, storage, and counting of salmon bycatch and procedures to ensure that salmon are not discarded from the vessel before they are counted by an observer. These proposed requirements will be included in the proposed rule for Amendment 91 that is expected to be published in late 2009.

This workshop focuses only on catch monitoring requirements onboard catcher/processors and motherships and will not include discussion of proposed requirements for shoreside processing plants. Proposed revisions to monitoring requirements in the shoreside processing plants were included in the draft Environmental Impact Statement prepared for Amendment 91 which is available on the NMFS Alaska Region website at http://www.alaskafisheries.noaa.gov/sustainablefisheries/bycatch/default.htm.

Special Accommodations

These workshops will be physically accessible to people with disabilities. Requests for sign language interpretation or other auxiliary aids should be directed to Sally Bibb, 907-586-7389, at least 10 working days prior to the meeting date.

Dated: August 21, 2009.
James P. Burgess,
Acting Director, Office of Sustainable Fisheries, National Marine Fisheries Service.

[FR Doc. E9-20728 Filed 8-26-09; 8:45 am]

BILLING CODE 3510-22-S